DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 16, 2017.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on August 31, 2017.
Donald Burger,
Chief, Office of the Special Permits and Approvals.

Application No. | Docket No. | Applicant | Regulation(s) affected | Nature of the special permits thereof
SPECIAL PERMITS DATA
20512-N |  | Worldwind Helicopters, Inc | 172.101(j), 172.200, 172.204(c)(3), 172.300, 173.27(b)(2), 175.30(a)(1), 175.75 | To authorize the transportation in commerce of certain hazardous materials by external load with a helicopter in remote areas of the US without being subject to hazard communication requirements and quantity limitations where no other means of transportation is available. (Mode 4).
20513-N |  | Rolling Paper Depot, LLC | 173.308 | To authorize the transportation in commerce of lighters without the use of certain hazard communication. (Mode 1)
20517-N |  | Advance Research Chemicals, Inc | 173.205 | To authorize the transportation in commerce of non-DOT specification cylinders containing materials intended for disposal. (Modes 1, 3).
20518-N |  | Colep Portugal, S.A | 178.33-7 | To authorize the manufacture, mark, sale and use of non-DOT specification receptacles conforming with all regulations applicable to a DOT specification (2P and 2Q), except for the wall thickness. (Modes 1, 2, 3).
20519-N |  | Richemont North America, Inc | 173.4b(a), 173.4b(a)(10) | To authorize the transportation in commerce of articles containing a Division 2.1 material as de minimis. (Modes 1, 4, 5).
20522-N |  | Maine Department of Transportation | 172.101(k), 172.200, 172.300, 172.400, 172.500, 172.600 | To authorize the transportation in commerce of private motor vehicles containing certain hazardous materials via passenger ferry vessels.
20523-N |  | Whitewave Foods Company, The | 173.306(b) | To authorize the transportation in commerce of non-DOT specification pressure receptacles containing foodstuffs. (Modes 1, 2, 3, 4, 5).
20524-N |  | Wilhelm Schmidt GmbH | 172.102(c)(4), 178.705(c)(2)(ii) | To authorize the manufacture, mark, sale, and use of IBCs intended to contain ammonia solutions and dichloromethane. (Modes 1, 2, 3).
20525-N |  | Avfuel Corporation | 180.407(a) | To authorize the transportation in commerce of certain DOT cargo tanks that have not been requalified in accordance with part 180. (Mode 1).
20526-N |  | Space Exploration Technologies Corp | 105.30, 105.30(a), 105.30(a)(2) | To authorize the transportation in commerce of low production lithium batteries contained in equipment in non-DOT specification packaging. (Mode 1).
20527-N |  | Procyon-Alpha Squared, Inc | 172.102(c)(1), 172.200, 172.300, 172.400, 173.159a(c)(2), 173.185(c)(1)(iii), 173.185(c)(1)(iv), 173.185(c)(1)(v), 173.185(c)(3) | To authorize the manufacture, mark, sale, and use of non-DOT specification packagings for the transportation in commerce of batteries without hazard communication. (Modes 1, 3).
20528-N |  | Triest AG Group, Inc | 180.205(g) | To authorize the transportation in commerce of DOT 4BW240 cylinders that have been requalified by proof pressure test and visual inspection. (Modes 1, 3).
20529-N |  | Texas Instruments Incorporated | 173.187 | To authorize the transportation in commerce of certain pyrophoric solids in UN 4H2 packaging. (Mode 1).
20530-N |  | CEA Liten | 172.101(j), 173.185(a) | To authorize the transportation in commerce of prototype lithium ion batteries in excess of 35 kg by cargo-only aircraft. (Mode 4).
20531-N |  | General Atomics | 172.101(j), 173.185(a) | To authorize the transportation in commerce of low production lithium batteries in excess of 35 kg by cargo-only aircraft. (Mode 4).
20532-N |  | Chart Inc | 172.203(a), 177.834(h) | To authorize the manufacture, mark, sale, and use of DOT 4L cylinders for the discharge of refrigerated liquid gases without removing them from the vehicle on which they are transported. (Mode 1).
20534-N |  | Energy Transport Solutions LLC | 172.101(i)(3) | To authorize the transportation in commerce of methane, refrigerated liquid in DOT specification 113C120W and 113C140W tank cars. (Mode 2).
20536-N |  | Amigo Mobility International, Inc |  | To authorize the transportation in commerce of lithium batteries without requiring shipper training.
20537-N |  | Inmark Packaging Limited Liability Company | 173.197(c) | To authorize the transportation in commerce of regulated medical waste in UN 11G packaging. (Mode 1).

[FR Doc. 2017-19342 Filed 9-13-17; 8:45 am]

BILLING CODE 4909-60-P